DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2008 Census Coverage Measurement, Initial Housing Unit Followup Operation.

Form Number(s): DX-1303.

Agency Approval Number: None.

Type of Request: New collection.

Burden Hours: 880.

Number of Respondents: 16,000.

Average Hours Per Response: 3 minutes.

Needs and Uses: In preparation for the 2010 Census, the U.S. Census Bureau requests authorization to conduct the Census Coverage Measurement (CCM) Initial Housing Unit Followup Interview as part of the 2008 Census Dress Rehearsal. The CCM program for the dress rehearsal is a dry run to ensure that all planned coverage measurement operations are working as expected, integrated internally, and coordinated with the appropriate census operations.

The 2008 Census Dress Rehearsal will be conducted in two sites, one urban, and the other, a mix of urban and suburban. San Joaquin County, California is the urban site. South Central North Carolina has been selected as the urban/suburban mix test site. This area consists of Fayetteville and nine surrounding counties (Chatham, Cumberland, Harnett, Hoke, Lee, Montgomery, Moore, Richmond, and Scotland).

The 2008 CCM Dress Rehearsal will be comprised of two samples selected to measure census coverage of housing units and the household population: The population sample (P sample) and the enumeration sample (E sample). The P sample is a sample of housing units and persons obtained independently from the census for a sample of block clusters. The E sample is a sample of census housing units and enumerations in the same block cluster as the P sample. The independent roster of housing units is obtained during the CCM Independent Listing, the results of which will be matched to census housing units in the sample block clusters and surrounding blocks. Discrepancies between the CCM Independent Listing and census housing unit matching are followed up in Initial Housing Unit Followup. A separate OMB package was submitted for the CCM Independent Listing field operation, and additional OMB packages will be submitted for subsequent CCM field operations.

The CCM operations planned for the dress rehearsal, to the extent possible, will mirror those that will be conducted for the 2010 Census to provide estimates of net coverage error and components of coverage error (omissions and erroneous enumerations) for housing units and persons in housing units. The data collection and matching methodologies for previous coverage measurement programs were designed only to measure net coverage error, which reflects the difference between omissions and erroneous inclusions.

During CCM Initial Housing Unit Followup, interviewers collect additional information for addresses unresolved after the matching operations. The CCM Initial Housing Unit Followup operation attempts to collect additional information that might allow a resolution of match codes for any differences between the independent listing results and the census address list and also to resolve potential duplicates. The Initial Housing Unit Followup operation will also determine the housing unit/group quarters status for living quarters flagged during the CCM Independent Listing operation. The Initial Housing Unit Followup data collection form will be created via Docuprint technology. The questions included for each followup case will vary depending upon the reason the address is being sent to followup. There will be one Initial Housing Unit Followup Form, DX-1303, that contains preprinted questions to ask respondents dependent upon the reason the address is being sent to followup. Interviewers will contact a member of each housing unit (or proxy, as a last resort) to answer the questions identified for a given address. When applicable, they will also update the location of an address on the CCM block cluster map created during the CCM Independent Listing operation.

Completed Initial Housing Unit Followup Forms are subject to Quality Control (QC) wherein QC interviewers return to the field to check a sample of housing units in each block cluster to ensure the work performed is of acceptable quality. If the cluster fails the QC, then the QC interviewer reworks the entire block cluster.

Affected Public: Individuals or households.

Frequency: One time.

Respondent's Obligation: Mandatory.

Legal Authority: Title 13, United States Code, Sections 141 and 193.

OMB Desk Officer: Brian Harris-Kojetin, (202) 395-7314.

Copies of the above information collection can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Brian Harris-Kojetin, OMB Desk Officer either by fax (202-395-7245) or e-mail (bharrisk@omb.eop.gov).

Dated: July 5, 2007.
Gwellnar Banks,
Management Analyst, Office of the Chief Information Officer.

[FR Doc. E7-13362 Filed 7-10-07; 8:45 am]

BILLING CODE 3510-07-P